DEPARTMENT OF DEFENSE

Department of the Navy

[Docket ID: USN-2025-HQ-0103]

Proposed Collection; Comment Request

AGENCY: Department of the Navy, Department of Defense (DoD).

ACTION: 60-Day information collection notice.

SUMMARY: In compliance with the Paperwork Reduction Act of 1995, the United States Marine Corps announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 29, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Headquarters Marine Corps Records, Reports, Directives, and Forms Management Section, 3000 Marine Corps, Pentagon Rm. 2B253, Mr. Mark Kazzi, (571) 256-8883.

SUPPLEMENTARY INFORMATION:

Title; Associated Form; and OMB Number: National Museum of the Marine Corps Experience Analysis Study; OMB Control Number 0712-NMMC.

Needs and Uses: The Marine Corps has contracted Windwalker Group, LLC to conduct an experience analysis study at the National Museum of the Marine Corps (NMMC). This study is crucial for the NMMC to evaluate and enhance its programs and design to create a more engaging and fulfilling visitor experience.

The contractor will collect information from NMMC visitors via a Customer Experience Study survey as they exit the museum. Data collectors will invite visitors to participate in the approximately 10-minute, anonymous survey, emphasizing that participation is voluntary and appreciated. Visitors will be informed of their right to withdraw at any time and that there are no direct benefits or risks associated with participation. Those agreeing to participate will be asked to scan a QR code with their smartphone or data collector's smartphone to access the online version of the survey. Paper surveys will also be provided upon request. Data collectors will retrieve the paper responses and enter them verbatim into a survey tool. Any physical copies of the survey will be returned to the contractor until the end of the project when they will be shredded. Online survey data, collected via QR code, will be automatically stored in a secure survey tool. An In-depth Gallery Study will also be conducted in which data collectors will unobtrusively observe museum visitors who are viewing exhibits in select NMMC galleries. Using gallery maps, data collectors will track visitor(s) movements and complete an observation rubric. Per 5 CFR 1320.3(h)(3), the observational phase of the study is not subject to the Paperwork Reduction Act.

The study will provide the museum with valuable insights into its programs and services, informing improvements to the visitor experience and enabling the museum to better serve its diverse audience. Additionally, the data will help the museum identify areas for improvement in the design and accessibility of its galleries, ultimately enhancing the overall visitor experience.

Affected Public: Individuals or households.

Annual Burden Hours: 813.

Number of Respondents: 4,880.

Responses per Respondent: 1.

Annual Responses: 4,880.

Average Burden per Response: 10 minutes.

Frequency: Annually.

Dated: July 25, 2025.
Aaron T. Siegel,
Alternate OSD Federal Register Liaison Officer, Department of Defense.

[FR Doc. 2025-14321 Filed 7-28-25; 8:45 am]

BILLING CODE 6001-FF-P